NATIONAL LABOR RELATIONS BOARD

Notice of Appointments of Individuals To Serve as Members of Performance Review Boards

AGENCY: National Labor Relations Board.

ACTION: The National Labor Relations Board is issuing this notice that the individuals whose names and position titles appear below have been appointed to serve as members of performance review boards in the National Labor Relations Board for the rating year beginning October 1, 2015 and ending September 30, 2016.

Authority: 5 U.S.C. 4314(c)(4).

Name and Title

Elizabeth Tursell—Associate to the General Counsel, Division of Operations Management

John Ferguson—Associate General Counsel, Division of Enforce Litigation

Barbara O'Neill—Associate General Counsel, Division of Legal Counsel

Kathleen A. Nixon—Deputy Chief Counsel to the Chairman

Andrew Krafts—Deputy Chief Counsel to the Chairman

Robert F. Schiff—Chief of Staff for the Chairman

Gary W. Shinners (Alternate)—Executive Secretary

Barry J. Kearney—(Alternate)—Associate General Counsel, Division of Advice

FOR FURTHER INFORMATION CONTACT: Gary Shinners, Executive Secretary, National Labor Relations Board, 1015 Half Street, SE., Washington, DC 20570, (202) 273-3737 (this is not a toll-free number), 1-866-315-6572 (TTY/TDD).

By Direction of the Board.
William B. Cowen,
Solicitor.

[FR Doc. 2016-25830 Filed 10-25-16; 8:45 am]

BILLING CODE 7545-01-P